DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of January 20, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: August 18, 2016.
Roy E. Wright,
Deputy Associate Administrator for Insurance and Mitigation, Department of Homeland Security, Federal Emergency Management Agency.

I. Non-Watershed-Based Studies:

Jackson County, Missouri and Incorporated Areas
[Docket No.: FEMA-B-1524]
Community | Community map repository address
City of Blue Springs | City Hall, 903 West Main Street, Blue Springs, MO 64015.
City of Buckner | Municipal Building, 315 South Hudson Street, Buckner, MO 64016.
City of Grain Valley | City Hall, 711 Main Street, Grain Valley, MO 64029.
City of Grandview | City Hall, 1200 Main Street, Grandview, MO 64030.
City of Greenwood | City Hall, 709 West Main Street, Greenwood, MO 64034.
City of Independence | Public Works Department, 111 East Maple Avenue, Independence, MO 64050.
City of Kansas City | City Hall, Planning and Development, 414 East 12th Street, 15th Floor, Kansas City, MO 64106.
City of Lake Lotawana | City Hall, 100 Lake Lotawana Drive, Lake Lotawana, MO 64086.
City of Lake Tapawingo | City Hall, 144 Anchor Drive, Lake Tapawingo, MO 64015.
City of Lee's Summit | City Hall, 220 Southeast Green Street, Lee's Summit, MO 64063.
City of Levasy | City Hall, 103 Pacific Street, Levasy, MO 64066.
City of Lone Jack | City Hall, 207 North Bynum Road, Lone Jack, MO 64070.
City of Oak Grove | City Hall, 1300 South Broadway Street, Oak Grove, MO 64075.
City of Raytown | City Hall, 10000 East 59th Street, Raytown, MO 64133.
City of Sugar Creek | City Hall, 103 South Sterling Avenue, Sugar Creek, MO 64054.
Unincorporated Areas of Jackson County | Jackson County Courthouse, 415 East 12th Street, Suite 200, Kansas City, MO 64106.
Village of River Bend | Village Hall, 3923 North Cobbler Road, River Bend, MO 64058.
Village of Sibley | City Hall, 208 Front Street, Sibley, MO 64088.
Village of Unity | Facilities Building, 1901 Northwest Blue Parkway, Unity, MO 64065.

[FR Doc. 2016-22850 Filed 9-21-16; 8:45 am]

BILLING CODE 9110-12-P